DEPARTMENT OF COMMERCE

National Oceanic and Atmospheric Administration

XRIN 0648-XG463

Endangered and Threatened Species; Take of Anadromous Fish

AGENCY: National Marine Fisheries Service (NMFS), National Oceanic and Atmospheric Administration (NOAA), Commerce.

ACTION: Notice of receipt of one permit application for enhancement and monitoring purposes, including an associated Hatchery and Genetic Management Plan (HGMP), and notice of availability of a draft Environmental Assessment.

SUMMARY: We, NMFS, announce receipt of a permit application (21501) to enhance the propagation and survival of species listed under the Endangered Species Act (ESA) of 1973, as amended, from the California Department of Fish and Wildlife (CDFW) and the United States Army Corps of Engineers (Corps). Under permit application 21501, CDFW and the Corps is requesting to continue, for the next 10 years, the ongoing broodstock hatchery program in the Russian River and tributaries, and in other target streams in coastal Sonoma and Marin Counties. The permit application is expected to advance recovery of the Central California Coast (CCC) coho salmon (Oncorhynchus kisutch) Evolutionary Significant Unit (ESU).

DATES: Comments or requests for a public hearing on the application must be received at the appropriate address or fax number (see ADDRESSES) no later than 5 p.m. Pacific standard time on December 26, 2018.

ADDRESSES: Written comments on the application should be submitted to the California Coastal Office, NMFS, 777 Sonoma Ave., Room 325, Santa Rosa, CA 95404. Comments may also be submitted via fax to 707-578-3435, or by email to WCR-DCFH.hgmp@noaa.gov (include the permit number in the subject line of the fax or email).

FOR FURTHER INFORMATION CONTACT: Bob Coey, Santa Rosa, CA (ph.: 707-575-6090; Fax: 707-578-3435; email: WCR-DCFH.hgmp@noaa.gov). Permit application instructions are available from the address above, or online at https://apps.nmfs.noaa.gov.

SUPPLEMENTARY INFORMATION:

Species Covered in This Notice

The following ESA-listed species are covered in this notice:

• Coho salmon (Oncorhynchus kisutch): Endangered Central California Coast (CCC) evolutionarily significant unit (ESU)

• Chinook salmon (Oncorhynchus tshawytcha): Threatened California Coastal (CC) ESU

• Steelhead (Oncorhynchus mykiss): Threatened CCC Distinct Population Segment (DPS), and threatened Northern California (NC) DPS.

Authority

Enhancement permits are issued in accordance with Section 10(a)(1)(A) of the ESA (16 U.S.C. 1539(a)(1)(A)) and regulations governing listed fish and wildlife permits (50 CFR part 222, subpart C). NMFS issues permits based on findings that such permits: (1) Are applied for in good faith; (2) if granted and exercised, would not operate to the disadvantage of the listed species that are the subject of the permit; (3) are consistent with the purposes and policies of Section 2 of the ESA; (4) whether the permit would further a bona fide and necessary or desirable scientific purpose or enhance the propagation or survival of the endangered species, taking into account the benefits anticipated to be derived on behalf of the endangered species; and additional issuance criteria (as listed at 50 CFR § 222.308(c)(5-12)). The authority to take listed species is subject to conditions set forth in the permit.

Anyone requesting a hearing on an application listed in this notice should set out the specific reasons why a hearing on that application would be appropriate (see ADDRESSES). Such hearings are held at the discretion of the Assistant Administrator for Fisheries, NMFS.

Permit Application Received

Permit 21051

CDFW and the Corps have applied for an enhancement permit under Section 10(a)(1)(A) of the ESA for a period of 10 years that would allow take, associated with activities conducted through the broodstock program, of multiple life stages of CCC coho, CC Chinook salmon, CCC and NC steelhead. The permit would authorize these activities described in the permit application, which is accompanied by an HGMP. The HGMP describes fish hatchery operations, capture/release activities and monitoring activities conducted through the broodstock program which would be permitted pursuant to the final HGMP. Fish hatchery operations included in the permit application such as spawning and rearing conducted by the Corps would result in take of CCC cohoonly. Capture and release activities in the permit application include capture of endangered CCC coho broodstock by CDFW from various streams within Sonoma, Marin, and Mendocino counties; and release of endangered CCC coho broodstock, offspring and post-spawn individuals into various streams within Sonoma, Marin, and Mendocino counties. Broodstock capture and release, and monitoring and in-river research activities, also described in the application, could result in take of CCC coho, CC Chinook salmon, CCC and NC steelhead. Some of these activities are covered under separate research permits as discussed below.

Since the initiation of the broodstock program in 2001, CDFW and the Corps have collected captive broodstock from streams in the Russian River and Lagunitas/Olema Creek watersheds and artificially propagated them at the DCFH. The broodstock is derived from hatchery-reared CCC coho juveniles retained from artificial propagation at DCFH, and the capture of natural-origin young-of-year (YOY) CCC coho from various tributaries within the Russian River and the Lagunitas/Olema Creek basins (used primarily for outbreeding), and the very few CCC coho returning to the DCFH as adults. Currently, surplus broodstock from the broodstock program are used to supplement populations in the Russian River as well as salmon, Walker and Redwood creeks. In addition, the broodstock program holds and rears CCC coho from Scott Creek,¹ without propagation. Through the broodstock program, CDFW and the Corps conducted these activities under ESA 10(a)(1)(A) permits 1067 and 10094. Permit 1067 was issued September 26, 2001, and authorized the collection of CCC coho from streams located in the Russian River and Marin County watersheds for developing captive broodstock and rescue rearing at DCFH. Permit 10094 was issued September 23, 2008, and authorized scientific research and monitoring of ESA-listed anadromous salmonids in California including CCC coho. Under the proposed HGMP these activities would continue.

¹ The DCFH rears CCC coho salmon and returns them to Kingfisher Flat Hatchery (KFH) where they then are released to Scott Creek. KFH operates under permit 1112.

CDFW and the Corps' proposed HGMP for the broodstock program also includes new provisions that would authorize collection, captive rearing, broodstock spawning, and release in focus and supplemental CCC coho populations identified in the HGMP and NMFS' recovery plan for CCC coho (see https://www.westcoast.fisheries.noaa.gov/protected_species/salmon_steelhead/recovery_planning_and_implementation/north_central_california_coast/central_california_coast_coho_recovery_plan.html).

Prospective populations of CCC coho identified in the HGMP that permit 21501 would also include are the Garcia, Navarro, Gualala River CCC coho populations, and other focus or supplemental populations identified in the NMFS Recovery Plan for CCC coho. CDFW and the Corps propose to conduct these new activities in order to achieve the goals of the broodstock program, which are to: (1) Prevent extirpation of CCC coho in the Russian River; (2) preserve genetic, ecological, and behavioral attributes of CCC coho in the Russian River; and (3) build self-sustaining CCC coho populations in the Russian River and throughout the CCC coho ESU.

CDFW and the Corps' proposed HGMP for the broodstock program includes provisions for a monitoring program. The proposed monitoring program is designed to determine the success of the broodstock program and has been in existence since the first release of program CCC coho in 2004. The proposed monitoring program is composed of two elements, hatchery and field monitoring.

Hatchery monitoring is associated with hatchery rearing and spawning activities and is conducted by Corps' hatchery staff. During spawning, hatchery staff record data on individual spawner performance (i.e. fecundity and fertility rates). During hatchery rearing, which is after spawning through release, hatchery staff collects data on life stage-specific survival. The hatchery staff retain two randomly chosen juvenile CCC coho from each family group (up to 1,500 fish) for potential use as broodstock in the event sufficient natural-origin fish from the same brood year are not available. All CCC coho collected and intended for use as broodstock at DCFH (including Scott Creek fish) are physically segregated at all times. Mortalities that occur during the routine operation of the program are removed from their respective rearing containers on a daily basis, and hatchery staff records and evaluates these daily mortalities to ensure that the number of mortalities among fry and more advanced life stages does not exceed 0.2 percent of any program production over any 24-hour period. Compliance with all applicable hatchery operations and health guidelines, as well as required specific effluent testing, is monitored and recorded by hatchery staff year-round. In addition, hatchery staff performs, monitors, and records all marking and tagging of CCC coho including: Passive integrated transponder (PIT) tagging of all fish collected from the natural environment; disk-tagging of all adults used for artificial spawning; coded-wire tagging of all broodstock program progeny to facilitate distinguishing between hatchery-origin and natural-origin fish; PIT tagging of ≥15 percent (minimum 30,000) of broodstock program progeny released to allow smolt-to-adult-return (SAR) calculations; and floy tagging of all adults that are released to allow identification of hatchery-reared adult CCC coho during spawner surveys.

Field monitoring is associated with the post-release performance of the broodstock program and has been conducted annually in a minimum of four index streams in the Russian River basin since 2004. This ongoing field monitoring, conducted by California Sea Grant under contract to the Corps, is a substantial complimentary monitoring element that is described in the HGMP, and helps to inform management of the broodstock program, but is operating independently under separate permits. The HGMP describes future monitoring efforts in out-of-basin streams to include at a minimum presence/absence surveys following release of fish of an appropriate life stage (e.g., summer juvenile surveys following YOY spring release, redd surveys following adult release), appropriate genetic analysis, or other evaluation of success as funding is available.

Under the application for Permit 21501, proposed take activities for CCC coho include monitoring; collecting broodstock and non-broodstock CCC coho; conducting routine hatchery activities including artificial propagation, rearing, tissue sampling, and marking; transporting and releasing of early life stage progeny (eyed eggs and/or unfed fry), juveniles (broodstock surplus), and adult (captive rearing and broodstock surplus) CCC coho into Russian River tributaries and other target streams.

Public Comments Solicited

NMFS invites the public to comment, including any written data, views, or arguments, on the permit application and associated HGMP during a 30-day public comment period beginning on the date of this notice. This notice is provided pursuant to Section 10(c) of the ESA (16 U.S.C. 1539(c)), 50 CFR 222.303. All comments and materials received, including names and addresses, will become part of the administrative record and may be released to the public. We provide this notice in order to allow the public, agencies, or other organizations to review and comment on these documents.

Next Steps

NMFS will evaluate the applications, associated documents, and comments submitted to determine whether the applications meet the requirements of Section 10(a)(1)(A) of the ESA and Federal regulations. The final permit decisions will not be made until after the end of the 30-day public comment period and after NMFS has fully considered all relevant comments received. NMFS will also meet other legal requirements prior to taking final action, including preparation of a biological opinion. NMFS will publish notice of its final action in the Federal Register.

Dated: November 20, 2018.
Angela Somma,
Chief, Endangered Species Division, Office of Protected Resources, National Marine Fisheries Service.

[FR Doc. 2018-25693 Filed 11-23-18; 8:45 am]

BILLING CODE 3510-22-P